DEPARTMENT OF HOUSING AND URBAN DEVELOPMENT

[Docket No. FR-7024-N-21]

30-Day Notice of Proposed Information Collection: Section 8 Moderate Rehabilitation Single Room Occupancy (SRO) Program OMB Control; OMB Control #2506-NEW

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: June 8, 2020.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on January 6, 2020 at 85 FR 519.

A. Overview of Information Collection

Title of Information Collection: Section 8 Moderate Rehabilitation Single Room Occupancy (SRO) Program.

OMB Approval Number: 2506-New.

Type of Request: New.

Form Number: N/A.

Description of the need for the information and proposed use: The Rent Calculation Worksheet is used at the beginning of the renewal contract term to determine the rent cost and can be in effect until contract rents for units in the project are adjusted. The amounts of the monthly contract rents are in accordance with HUD requirements by using the Operating Cost Allocation Factor (OCAF). The Renewal Contract is a Housing Assistance Payments contract (HAP) between the Public Housing Authority and the owner of the project.

Information collection | Number of respondents | Frequency of response | Responses per annum | Burden hour per response | Annual burden hours | Hourly cost per response | Annual cost
HAP | 378.00 | 1.00 | 378.00 | 2.00 | 756.00 | $41.66 | $31,494.96
Rent Calculation Worksheet Addendum | 378.00 | 1.00 | 378.00 | 3.00 | 1,134.00 | 41.66 | 47,242.44

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. Chapter 35.

Dated: April 28, 2020.
Anna P. Guido,
Department Reports Management Officer, Office of the Chief Information Officer.

[FR Doc. 2020-09793 Filed 5-6-20; 8:45 am]

BILLING CODE 4210-67-P